DEPARTMENT OF HEALTH AND HUMAN SERVICES

Food and Drug Administration

[FDA 225-04-4003]

Memorandum of Understanding Between the Food and Drug Administration and the University of California, Lawrence Livermore National Laboratory

AGENCY: Food and Drug Administration, HHS.

ACTION: Notice.

SUMMARY: The Food and Drug Administration (FDA) is providing notice of a memorandum of understanding (MOU) between FDA and the University of California (UC), Lawrence Livermore National Laboratory to establish the framework for collaborative research and development and emergency triage response efforts. FDA and UC Lawrence Livermore National Laboratory will work collaboratively to expedite development of methods and technologies that are needed to address Homeland Security issues.

DATES: The agreement became effective February 23, 2004.

FOR FURTHER INFORMATION CONTACT: Karen A. Wolnik, Forensic Chemistry Center (HFR-CE502), Food and Drug Administration, 6751 Steger Dr., Cincinnati, OH 45237, 513-679-2700 ext. 181.

SUPPLEMENTARY INFORMATION: In accordance with 21 CFR 20.108(c), which states that all written agreements and MOUs between FDA and others shall be published in the Federal Register, the agency is publishing notice of this MOU.

Dated: July 21, 2004.
Jeffrey Shuren,
Assistant Commissioner for Policy.

[FR Doc. 04-17511 Filed 7-30-04; 8:45 am]

BILLING CODE 4160-01-C